DEPARTMENT OF COMMERCE

International Trade Administration

[A-583-833]

Polyester Staple Fiber From Taiwan: Rescission of Antidumping Duty Administrative Review; 2014-2015

AGENCY: Enforcement and Compliance, International Trade Administration, Department of Commerce.

SUMMARY: The Department of Commerce (the Department) is rescinding its administrative review of the antidumping duty order on polyester staple fiber (PSF) from Taiwan for the period of review (POR) May 1, 2014, through April 30, 2015.

DATES: Effective Date: August 4, 2015.

FOR FURTHER INFORMATION CONTACT: Bryan Hansen at 202-482-3683 or Minoo Hatten at 202-482-1690, AD/CVD Operations Office I, Enforcement and Compliance, International Trade Administration, U.S. Department of Commerce, 14th Street and Constitution Avenue NW., Washington, DC 20230.

SUPPLEMENTARY INFORMATION:

Background

On May 30, 2015, based on a timely request for review by Far Eastern New Century Corporation (FENC), an exporter of subject merchandise,¹ the Department initiated an administrative review of the antidumping duty order on PSF from Taiwan with respect to FENC.²

¹ See letter from FENC to the Department, “Polyester Staple Fiber from Taiwan” (May 30, 2015).

² See Initiation of Antidumping and Countervailing Duty Administrative Reviews, 80 FR 37588 (July 1, 2015).

On July 21, 2015, FENC withdrew its request for an administrative review.³

³ See letter from FENC to the Department, “Polyester Staple Fiber from Taiwan” (July 21, 2015).

Rescission of Review

Pursuant to 19 CFR 351.213(d)(1), the Department will rescind an administrative review, if a party that requested a review withdraws the request within 90 days of the date of publication of notice of initiation of the requested review. FENC withdrew its request for review within the 90-day time limit. Because no other party requested a review, the Department is rescinding this administrative review of the antidumping duty order on PSF from Taiwan.

Assessment

The Department will instruct U.S. Customs and Border Protection (CBP) to assess antidumping duties on all appropriate entries of PSF from Taiwan during the POR at rates equal to the cash deposit rate of estimated antidumping duties required at the time of entry, or withdrawal from warehouse, for consumption, in accordance with 19 CFR 351.212(c)(1)(i). The Department intends to issue appropriate assessment instructions to CBP 15 days after the publication of this notice in the Federal Register.

Notifications

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO, in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: July 28, 2015.
Christian Marsh,
Deputy Assistant Secretary for Antidumping and Countervailing Duty Operations.

[FR Doc. 2015-19143 Filed 8-3-15; 8:45 am]

BILLING CODE 3510-DS-P